DEPARTMENT OF JUSTICE

Notice of Proposed Consent Decree Under the Comprehensive Environmental Response, Compensation, and Liability Act

Notice is hereby given that on August 22, 2011, a proposed Consent Decree in United States v. Rexam Inc., Civil Action No. 3:11-cv-04836-JAP-DEA, was lodged with the United States District Court for the District of New Jersey.

The proposed Consent Decree will settle the United States' claims on behalf of the U.S. Environmental Protection Agency (“EPA”) against Defendant Rexam Inc. (“Rexam”), pursuant to Section 107 of the Comprehensive Environmental Response, Compensation, and Liability Act (“CERCLA”), 42 U.S.C. 9607, with respect to the Crown Vantage Landfill Superfund Site, in Alexandria Township, Hunterdon County, New Jersey (“Site”). The Site is on the National Priorities List established pursuant to Section 105(a) of CERCLA, 42 U.S.C. 9605(a). Pursuant to the Consent Decree, Rexam will pay $630,960 in reimbursement of response costs incurred by the United States on or before September 26, 2007, plus interest. In the proposed Consent Decree the United States reserves its right to seek reimbursement of Site-related response costs incurred after that date and certain response costs incurred before that date for work performed by the Agency for Toxic Substances Disease Registry on behalf of EPA.

The Department of Justice will receive comments relating to the proposed Consent Decree for a period of 30 days from the date of this publication. Comments on the Consent Decree should be addressed to the Assistant Attorney General, Environment and Natural Resources Division, and either e-mailed to pubcomment-ees.enrd@usdoj.gov or mailed to P.O. Box 7611, U.S. Department of Justice, Washington, DC 20044-7611, and should refer to United States v. Rexam Inc., Civil Action No. 3:11-cv-04836-JAP-DEA, D.J. Ref. No. 90-11-3-09445/3.

During the public comment period, the proposed Consent Decree may be examined at the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting a copy by mail from the Consent Decree Library, please enclose a check in the amount of $4.75 ($0.25 per page reproduction cost) payable to the U.S. Treasury or, if requesting by e-mail or fax, forward a check in that amount to the Consent Decree Library at the above-referenced address.

Ronald G. Gluck,
Assistant Chief, Environmental Enforcement Section, Environment and Natural Resources Division.

[FR Doc. 2011-21938 Filed 8-26-11; 8:45 am]

BILLING CODE 4410-15-P